DEPARTMENT OF COMMERCE

Bureau of the Census

Census Advisory Committee on the American Indian and Alaska Native Populations

AGENCY: Bureau of the Census, Commerce.

ACTION: Notice of public meeting.

SUMMARY: Pursuant to the Federal Advisory Committee Act (Pub. L. 92-463 as amended by Pub. L. 94-409, Pub. L. 96-523, and Pub. L. 97-375), the Bureau of the Census (Census Bureau) is giving notice of a meeting of the Census Advisory Committee on the American Indian and Alaska Native Populations. The meeting will focus on data and geographic products affecting American Indians and Alaska Native Populations. We are still finalizing the details of the meeting's agenda.

DATES: November 1, 2000. The meeting will begin at 12:30 p.m. and end at approximately 5:15 p.m.

ADDRESSES: The meeting will take place at the Hilton Alexandria Mark Center, 5000 Seminary Road, Alexandria, VA 22311.

FOR FURTHER INFORMATION CONTACT: Maxine Anderson-Brown, Committee Liaison Officer, Census Bureau, Department of Commerce, Room 1647, Federal Building 3, Washington, DC 20233, telephone 301-457-2308, TDD 301-457-2540.

SUPPLEMENTARY INFORMATION: The Committee is composed of nine members appointed by the Secretary of Commerce. The Committee provides a channel of communication between the representative communities and the Census Bureau. It assists the Census Bureau in its efforts to reduce the differential undercount for American Indian and Alaska Native Populations and advises on ways that decennial census data can best be disseminated to communities and other users. It provides advice and recommendations for the Census Bureau to consider in planning the 2010 census and the American Community Survey.

The meeting is open to the public, and a brief period is set aside during the closing session for public comment and questions. Those persons with extensive questions or statements must submit them in writing to the Census Bureau Committee Liaison Officer, named above, at least three days before the meeting.

This meeting is physically accessible to people with disabilities. Requests for sign language interpretation or other auxiliary aids should be directed to the Census Bureau Committee Liaison Officer at least three days prior to the meeting.

Dated: October 3, 2000.
Kenneth Prewitt,
Director, Bureau of the Census.

[FR Doc. 00-25730 Filed 10-5-00; 8:45 am]

BILLING CODE 3510-07-P